FEDERAL COMMUNICATIONS COMMISSION

47 CFR Part 73

[DA 00-775; MM Docket No. 00-60, RM-9827; MM Docket No. 00-61, RM-9840; MM Docket No. 00-62; RM-9846]

Radio Broadcasting Services; Sheffield, PA; Erie, IL; Due West, SC

AGENCYL: Federal Communications Commission.

ACTION: Proposed rule.

SUMMARY: This document proposes three new allotments at Sheffield, Pennsylvania; Erie, Illinois; and Due West, South Carolina.

DATES: Comments must be filed on or before May 30, 2000, and reply comments on or before June 14, 2000.

ADDRESSES: Federal Communications Commission, Washington, DC 20554. In addition to filing comments with the FCC, interested parties should serve the petitioner, his counsel, or consultant, as follows: Arthur V. Belendiuk, Esq., Smithwick & Belendiuk, P.C., 1990 M Street, NW., Suite 510, Washington, DC 20036 (Counsel for Port Erie Communications); Lee J. Peltzman, Shainis & Peltzman, Chartered, 1901 L Street, NW., Suite 290, Washington, DC 20036 (Counsel Erie Foods International, Inc.); Patricia M. Chuh, Pepper & Corazzini, LLP, 1776 K Street, NW, Suite 200, Washington, DC 20006-2334 (Counsel for Sutton Radiocasting Corporation).

FOR FURTHER INFORMATION CONTACT: Sharon P. McDonald, Mass Media Bureau, (202) 418-2180.

SUPPLEMENTARY INFORMATION: This is a synopsis of the Commission's Notice of Proposed Rule Making, MM Docket No. 00-60; MM Docket No. 00-61; and MM Docket No. 00-62, adopted March 29, 2000, and released April 7, 2000. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036 .

The Commission requests comments on a petition filed by Port Erie Communications proposing the allotment of Channel 286A at Sheffield, Pennsylvania, as the community's first local aural transmission service. Channel 286A can be allotted to Sheffield in compliance with the Commission's minimum distance separation requirements at city reference coordinates. The coordinates for Channel 286A at Sheffield are 41-42-42 North Latitude and 79-00-56 West Longitude. Since Sheffield is located within 320 kilometers (200 miles) of the U.S.-Canadian border, Canadian concurrence has been requested.

The Commission requests comments on a petition filed by Erie Foods International, Inc., proposing the allotment of Channel 288A at Erie, Illinois, as the community's first local aural transmission service. Channel 288A can be allotted to Erie in compliance with the Commission's minimum distance separation requirements with a site restriction of 0.6 kilometers (0.4 miles) east to avoid a short-spacing to licensed site of Station KQLI(FM), Channel 285C3, DeWitt, Iowa. The coordinates for Channel 288A at Erie are 41-39-22 North Latitude and 90-04-23 West Longitude.

The Commission also requests comments on a petition filed by Sutton Radiocasting Corporation proposing the allotment of Channel 237A at Due West, South Carolina, as the community's first local aural transmission service. Channel 237A can be allotted to Due West in compliance with the Commission's minimum distance separation requirements with a site restriction of 5.5 kilometers (3.4 miles) south to avoid a short-spacing to the licensed site of Station WBTS(FM), Channel 238C1, Athens, Georgia. The coordinates for Channel 237A at Due West are 34-17-13 North Latitude and 82-24-23 West Longitude.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-9778 Filed 4-18-00; 8:45 am]

BILLING CODE 6712-01-P